DEPARTMENT OF DEFENSE

Office of the Secretary

[Docket No. DoD-2008-DARS-0095]

Submission for OMB Review; Comment Request

ACTION: Notice.

The Department of Defense has submitted to OMB for clearance, the following proposal for collection of information under the provisions of the Paperwork Reduction Act (44 U.S.C. Chapter 35).

DATES: Consideration will be given to all comments received by December 26, 2008.

Title and OMB Number: Defense Federal Acquisition Regulation Supplement (DFARS) Part 217, Special Contracting Methods, and related provisions and clauses at DFARS 252.217; OMB Control Number 0704-0214.

Type of Request: Extension.

Number of Respondents: 54,181.

Responses per Respondent: 2.0065.

Annual Responses: 108,714.

Average Burden per Response: 10.23901 hours.

Annual Burden Hours: 1,113,124.

Needs and Uses: Contracting officers need the information required by DFARS Part 217 and the related provisions and clauses to determine the economic advantage of exchange (trade-in) of personal property; to permit definitization of contract actions; to determine the reasonableness of proposed prices; to determine that a contractor is adequately insured; to determine the appropriate course of action in the event of loss or damage to a vessel; to provide for competition in future acquisitions; and to determine the need for “over and above” work.

Affected Public: Business or other for-profit; not-for-profit institutions.

Frequency: On Occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings

Written requests for copies of the information collection proposal should be sent to Ms. Toppings at WHS/ESD/Information Management Division, 1777 North Kent Street, RPN, Suite 11000, Arlington, VA 22209-2133.

Dated: November 18, 2008.
Patricia L. Toppings,
OSD Federal Register Liaison Officer, Department of Defense.

[FR Doc. E8-28137 Filed 11-25-08; 8:45 am]

BILLING CODE 5001-06-P